DEPARTMENT OF TRANSPORTATION

Maritime Administration

[Docket No. MARAD-2020-0119]

Request for Comments on the Approval of a Previously Approved Information Collection: Automated Mutual Assistance Vessel Rescue System

AGENCY: Maritime Administration, Transportation (DOT).

ACTION: Notice and request for comments.

SUMMARY: The Maritime Administration (MARAD) invites public comments on our intention to request the Office of Management and Budget (OMB) approval to renew an information collection. The collection of information is necessary for maintaining a current plot of U.S.-flag and U.S.-owned vessels. We are required to publish this notice in the Federal Register by the Paperwork Reduction Act of 1995.

DATES: Comments must be submitted on or before October 26, 2020.

ADDRESSES: You may submit comments [identified by Docket No. MARAD-2020-0119] through one of the following methods:

• Federal eRulemaking Portal: http://www.regulations.gov. Search using the above DOT docket number and follow the online instructions for submitting comments.

• Fax: 1-202-493-2251.

• Mail or Hand Delivery: Docket Management Facility, U.S. Department of Transportation, 1200 New Jersey Avenue SE, West Building, Room W12-140, Washington, DC 20590, between 9 a.m. and 5 p.m., Monday through Friday, except on Federal holidays.

Comments are invited on: (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

FOR FURTHER INFORMATION CONTACT: Mark O'Malley, 202-366-9347, Division of Sealift Operations and Emergency Response, Maritime Administration, U.S. Department of Transportation, 1200 New Jersey Avenue SE, Washington, DC 20590.

SUPPLEMENTARY INFORMATION:

Title: Automated Mutual Assistance Vessel Rescue System (AMVER).

OMB Control Number: 2133-0025.

Type of Request: Renewal of a previously approved collection.

Abstract: This collection of information will be used to gather information regarding the location of U.S.-flag vessels and certain other U.S. citizen-owned vessels for the purpose of search and rescue in the saving of lives at sea and for the marshalling of ships for national defense and safety purposes. The collection of information is necessary for maintaining a current plot of U.S.-flag and U.S.-owned vessels.

Respondents: U.S.-flag and U.S. citizen-owned vessels.

Affected Public: Business or other for profit.

Estimated Number of Respondents: 171.

Estimated Total Number of Responses: 31,293 (183 per Respondents).

Estimated Hours per Response: .07.

Annual Estimated Total Annual Burden Hours: 2,191.

Frequency of Response: Annually.

(Authority: The Paperwork Reduction Act of 1995; 44 U.S.C. Chapter 35, as amended; and 49 CFR 1.93.)

* * *

Dated: August 24, 2020.
By Order of the Maritime Administrator.
T. Mitchell Hudson, Jr.,
Secretary, Maritime Administration.

[FR Doc. 2020-18842 Filed 8-26-20; 8:45 am]

BILLING CODE 4910-81-P